DEPARTMENT OF AGRICULTURE

Agricultural Marketing Service

[Doc No. AMS-FGIS-20-0077]

Certification of Alabama, Virginia, Washington, and Wisconsin To Provide Official Services at Export Port Locations Under a Delegation; Cancellation of South Carolina's Delegation

AGENCY: Agricultural Marketing Service, USDA.

ACTION: Notice.

SUMMARY: The Agricultural Marketing Service (AMS) is announcing the certification of the Alabama Department of Agriculture and Industries (ADAI); Virginia Department of Agriculture and Consumer Services (VDACS); Washington State Department of Agriculture (WSDA); and the Wisconsin Department of Agriculture, Trade and Consumer Protection (WDATCP) to provide official inspection services at export port locations, under delegated authority of the United States Grain Standards Act (USGSA), as amended. AMS is also announcing the cancellation of the South Carolina Department of Agriculture's (SCDA) delegation.

DATES: Effective January 27, 2021.

FOR FURTHER INFORMATION CONTACT: Sophie Parker, Deputy Director, Quality Assurance and Compliance Division, Federal Grain Inspection Service, AMS, USDA; phone: (202) 720-9170; or email FGISQACD@usda.gov. If you would like to view the comments, please contact us at FGISQACD@usda.gov (7 CFR 1.27(c)).

SUPPLEMENTARY INFORMATION: The USGSA, at Section 7(e) (7 U.S.C. 79(e)), requires the Secretary of Agriculture (Secretary) to certify, every five years, that each State agency with a delegation of authority is meeting the criteria described for carrying out inspections on behalf of the Secretary. This certification process includes: (1) Publishing, in the Federal Register, a notice of intent to certify a State agency and provide a 30-day period for public comment; (2) evaluating the public comments received; and (3) conducting an investigation to determine whether the State agency is qualified. Findings must be based on public comments received and investigation conducted. Once concluded, USDA must publish a Federal Register notice announcing whether the certification has been granted, describing the basis on which the Secretary made the decision.

In the April 17, 2017; April 5, 2018; July 3, 2017; August 24, 2016; and April 17, 2017, editions of the Federal Register (82 FR 18101; 83 FR 14622; 82 FR 30819; 81 FR 57886; and 82 FR 18099), the Federal Grain Inspection Service (FGIS), requested comments separately on the quality of services provided by the delegated State agencies ADAI, VDACS, WSDA, WDATCP, and SCDA, respectively. Comments for each State agency were due 30 days from the respective publication dates.

FGIS received one comment in support of ADAI, VDACS, WDATCP, and SCDA maintaining their statuses as delegated State agencies under the USGSA. FGIS also received one comment supporting WSDA maintaining its status as a delegated State agency under the USGSA with certain contingences. This comment's proposed contingencies included: A prohibition on political influence over inspection decisions, requiring expedited service from FGIS when a delegated State agency is unable to perform services, improving processes for substitution of FGIS inspections, and improving the delegation documents. FGIS has updated the delegations in a manner that FGIS believes addresses many of the concerns this comment has raised, including providing how FGIS would assume inspection responsibility when a delegated State agency is unable to provide service, adopting uniform and time-limited delegation documents, and clarifying the relative responsibilities of FGIS and the delegated State agencies.

In compliance with the USGSA section 7, AMS conducted additional research to confirm whether ADAI, VDACS, WDATCP, or WSDA was under any investigation by the Department of Justice or Government Accountability Office that could disqualify them from being delegated authority under the USGSA. There were no findings to disqualify these agencies from consideration. AMS also assessed whether any negative legal opinions or decisions had been rendered against the agencies by the States' Attorneys General; nothing was found to disqualify the State agencies from the delegation process.

Compliance reviews were conducted to assess the performance of WDATCP, VDACS, ADAI and WSDA. For WDATCP, the review was a follow-up for a review conducted the year prior, during which performance concerns were uncovered; by the time the second review was conducted, these concerns had been resolved. The VDACS, ADAI and WSDA all performed well during their compliance reviews. AMS found all four State agencies compliant with the requirements.

AMS did not conduct the same level of evaluation for SCDA. In reviewing eligibility criteria against the State of South Carolina's current infrastructure, AMS acknowledges that the State of South Carolina no longer has any operable, bulk-grain export port facilities. Accordingly, AMS is not certifying the extension of SCDA's delegation. By way of this notice, SCDA's delegation is canceled. If any grain export port facility were to open in the future within the State of South Carolina, SCDA would have the opportunity to become delegated again.

With respect to ADAI, VDACS, WSDA, and WDATCP, after reviewing the comments and delegation criteria in section 7(e) of the USGSA (7 U.S.C. 79(e)), AMS has determined that ADAI, VDACS, WSDA, and WDATCP are qualified to provide official services in the geographic areas specified in the Federal Register on April 17, 2017; April 5, 2018; July 3, 2017; and August 24, 2016, respectively. As a result, AMS is certifying their delegation to provide official services at export port locations.

Interested persons may obtain official services by contacting these State agencies at the following telephone numbers:

State agency | Headquarters location and telephone
Alabama | Montgomery, AL, (334) 240-7231.
Virginia | Richmond, VA, (804) 786-3501.
Washington | Olympia, WA, (360) 902-1888.
Wisconsin | Madison, WI, (608) 224-4922.

Authority: 7 U.S.C. 71-87k.

Bruce Summers,
Administrator, Agricultural Marketing Service.

[FR Doc. 2020-28499 Filed 12-23-20; 8:45 am]

BILLING CODE P+-